NUCLEAR REGULATORY COMMISSION

Agency Information Collection Activities: Submission for OMB Review; Comment Request

AGENCY: U.S. Nuclear Regulatory Commission (NRC).

ACTION: Notice of the OMB review of information collection and solicitation of public comment.

SUMMARY: The NRC has recently submitted to OMB for review the following proposal for the collection of information under the provisions of the Paperwork Reduction Act of 1995 (44 U.S.C. Chapter 35). The NRC hereby informs potential respondents that an agency may not conduct or sponsor, and that a person is not required to respond to, a collection of information unless it displays a currently valid OMB control number.

Information pertaining to the requirement to be submitted:

1. Type of submission, new, revision, or extension: Extension.

2. The title of the information collection: 10 CFR Part 60—“Disposal of High-Level Radioactive Wastes in Geologic Repositories.”

3. The form number, if applicable: N/A.

4. How often the collection is required: The information need only be submitted one time.

5. Who is required or asked to report: State or Indian Tribes, or their representatives, requesting consultation with the NRC staff regarding review of a potential high-level waste geologic repository site, or wishing to participate in a license application review for a potential geologic repository.

6. An estimate of the number of responses: Six.

7. The number of annual respondents: Two.

8. The number of hours needed annually to complete the requirement or request: An average of 40 hours per response for consultation requests, 80 hours per response for license application review participation proposals, and 1 hour per response for statements of representative authority. The total burden for all responses is estimated to be 242 hours.

9. An indication of whether Section 3507(d), Pub. L. 104-13 applies: Not applicable.

10. Abstract: Part 60 requires States and Indian Tribes to submit certain information to the NRC if they request consultation with the NRC staff concerning the review of a potential repository site, or wish to participate in a license application review for a potential repository. Representatives of States or Indian Tribes must submit a statement of their authority to act in such a representative capacity. The information submitted by the States and Indian Tribes is used by the Director of the Office of Nuclear Material Safety and Safeguards as a basis for decisions about the commitment of NRC staff resources to the consultation and participation efforts. On February 22, 1999, the Commission proposed to modify its generic criteria for disposal of spent nuclear fuel and high-level radioactive wastes in geologic repositories at 10 CFR part 60 to make clear that they will not apply, nor be the subject of litigation, in any NRC licensing proceeding for a repository at Yucca Mountain (64 FR 8639). Information collection requirements applicable to the licensing of a geologic repository at Yucca Mountain were proposed at that time, in 10 CFR part 63, and will be issued later this year.

A copy of the final supporting statement may be viewed free of charge at the NRC Public Document Room, 2120 L Street, NW (lower level), Washington, DC. OMB clearance requests are available at the NRC worldwide web site (http://www.nrc.gov/NRC/PUBLIC/OMB/index.html). The document will be available on the NRC home page site for 60 days after the signature date of this notice.

Comments and questions should be directed to the OMB reviewer by May 30, 2000: Erik Godwin, Office of Information and Regulatory Affairs (3150-0143), NEOB-10202, Office of Management and Budget, Washington, DC 20503.

Comments can also be submitted by telephone at (202) 395-3087.

The NRC Clearance Officer is Brenda Jo. Shelton, 301-415-7233.

Dated at Rockville, Maryland, this 21st day of April, 2000.
For the Nuclear Regulatory Commission.
Brenda Jo. Shelton,
NRC Clearance Officer, Office of the Chief Information Officer.

[FR Doc. 00-10663 Filed 4-27-00; 8:45 am]

BILLING CODE 7590-01-P